ENVIRONMENTAL PROTECTION AGENCY

[FRL-6993-5]

Recent Posting to the Applicability Determination Index (ADI) Database System of Agency Applicability Determinations, Alternative Monitoring Decisions, and Regulatory Interpretations Pertaining to Standards of Performance for New Stationary Sources and National Emission Standards for Hazardous Air Pollutants

AGENCY: Environmental Protection Agency (EPA).

ACTION: Notice of availability.

SUMMARY: This notice announces applicability determinations, alternative monitoring decisions, and regulatory interpretations that EPA has made under the new source performance standards (NSPS)(40 CFR part 60), and the national emission standards for hazardous air pollutants (NESHAP)(40 CFR parts 61 and 63).

FOR FURTHER INFORMATION CONTACT: An electronic copy of each complete document posted on the Applicability Determination Index (ADI) database system is available on the Internet through the ADI at http://es.epa.gov/oeca/eptdd/adi.html. The document may be located by date, author, subpart, or subject search. For questions about the ADI or this notice, contact Valerie Bynum at EPA by phone at (202) 564-4189, or by email at bynum.valerie@epamail.epa.gov. For technical questions about the individual applicability determinations or monitoring decisions, refer to the contact person identified in the individual documents, or in absence of a contact person, refer to the author of the document.

SUPPLEMENTARY INFORMATION:

Background

The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Further, EPA responds to written inquiries about the broad range of NSPS and NESHAP regulatory requirements as they pertain to a whole source category. These inquiries may pertain, for example, to the type of sources to which the regulation applies, or to the testing, monitoring, recordkeeping or reporting requirements contained in the regulation.

EPA currently compiles EPA-issued NSPS and NESHAP applicability determinations, alternative monitoring decisions, and regulatory interpretations, and posts them on the Applicability Determination Index (ADI) on a quarterly basis. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 63 of such documents added to the ADI on April 17, 2001. The subject, author, recipient, and date (header) of each letter and memorandum is listed in this notice, as well as a brief abstract of the letter or memorandum. Complete copies of these documents may be obtained from the ADI at http://es.epa.gov/oeca/eptdd/adi.html.

Summary of Headers and Abstracts

The following table identifies the database control number for each document posted on the ADI database system on April 17, 2001, the applicable category, the subpart(s) of 40 CFR part 60, 61, or 63 (as applicable) covered by the document, and the title of the document, which provides a brief description of the subject matter. We have also included an abstract of each document identified with its control number after the table. These abstracts are provided solely to alert the public to possible items of interest and are not intended as substitutes for the full text of the documents.

ADI Determinations Uploaded on April 17, 2001: Control No. | ADI Determinations Uploaded on April 17, 2001: Category | ADI Determinations Uploaded on April 17, 2001: Subpart | ADI Determinations Uploaded on April 17, 2001: Title
M010002 | MACT | KK | Coating Finishing Lines with Some Rotogravure Printing
M010003 | MACT | T, GG | Degreaser Subject to Aerospace MACT
M010004 | MACT | DD | Applicability of OSWRO MACT to a Chute
M010005 | MACT | GG | Aerospace MACT Applicability & Transition Policy
M010006 | MACT | JJJ | Alternative Monitoring
M010008 | MACT | H | Applicability to In-line Check Valves
M010009 | MACT | LLL | Performance Test Deadline Extension
M010010 | MACT | A | Test Waiver Request
M010011 | MACT | DDD, NNN | Mineral Wool & Wool Fiberglass Resin Curing
Z000006 | NESHAP | FF | Treatment and Control Requirements for TSD Facilities
Z010002 | NESHAP | F, V | Equivalent Equipment and Procedures
0000117 | NSPS | Db | Coke Oven Gas Under NSPS Subpart Db
0000118 | NSPS | Dc | Request for Waiver for Monitoring Under Subpart Dc
0000119 | NSPS | VVV | Subpart VVV Applicability to a Battery Pack Line
0000120 | NSPS | OOO | Portable Automatic Aggregate Sampling Devices Applicability
0000121 | NSPS | J | Definition of “all 12 hour periods” Under Subpart J
0000122 | NSPS | OOO | Test Waiver for Stone & Lime Company
0000123 | NSPS | NNN | Alternative Monitoring Methodology
0000124 | NSPS | Db | Boiler Modification
0000125 | NSPS | DDD | Waiver of Source Test
0000126 | NSPS | Dc | Alternative Fuel Usage Recordkeeping
0000127 | NSPS | BB | Brown Stock Washer Exemption
0000128 | NSPS | GG, A | Subpart GG—Alternative Monitoring and Testing
0000129 | NSPS | GG, A | Subpart GG—Waiver of Initial Performance Test
0000130 | NSPS | Db | Subpart Db—Coke Oven Gas & Furnace Oven Gas
0100001 | NSPS | AAa | Alternative Sampling Procedure
0100002 | NSPS | OOO, A | Relocated Crusher
0100003 | NSPS | GG | Monitor Certification Deadline Extension
0100004 | NSPS | Db | Predictive Emission Monitoring
0100005 | NSPS | J | Alternative Monitoring Procedure
0100006 | NSPS | Db | NOX Emission Standard Applicability
0100007 | NSPS | GG, A | Test Waiver
0100008 | NSPS | Dc | Recordkeeping Waiver
0100009 | NSPS | Db, A | Predictive Emission Monitoring
0100010 | NSPS | Db, A | Predictive Emission Monitoring
0100011 | NSPS | HH | Alternative Opacity Monitoring Under NSPS Subpart HH
0100012 | NSPS | PPP | Request to Monitor Third Field of a Three-Field Wet ESP
0100013 | NSPS | Db | Alternative Opacity Monitoring Under Subpart Db
0100014 | NSPS | GG | Custom Fuel Monitoring Schedule
0100015 | NSPS | AA | Applicability of Subpart AA to EAF at a Foundry
0100016 | NSPS | Dc | Approval of Derate Proposal
0100017 | NSPS | GG | Alternative Monitoring Schedule Under Subpart GG
0100018 | NSPS | NNN, RRR, Dc | Alternative Monitoring Proposals
0100019 | NSPS | GG | Alternative Monitoring for Subpart GG
0100020 | NSPS | GG | Alternative Monitoring for Subpart GG
0100021 | NSPS | OOO, LLL | Performance Test Deadline Extension
0100022 | NSPS | BB | Exemption from TRS Standards for Brown Stock Washers
0100023 | NSPS | GG | Nitrogen Monitoring Waiver
0100024 | NSPS | EE | HVLP Transfer Efficiency
0100025 | NSPS | VV | Applicability to In-line Check Valves/Limited VOC Equipment
0100026 | NSPS | Dc | Opacity Monitoring Alternative
0100027 | NSPS | GG, A | Test Deadline Extension
0100028 | NSPS | Db | Opacity Monitoring Alternative
0100029 | NSPS | Dc, A | Test Deadline Extension
0100030 | NSPS | GG, A | Test Deadline Extension
0100031 | NSPS | UU, A | Visible Emission Test Reduction
0100032 | NSPS | Db | Opacity Monitoring Alternative
0100033 | NSPS | GG | Custom Fuel Monitoring Schedule
0100034 | NSPS | J, A | CEM Requirement for Measuring H2S Vapors in Loading Racks
0100035 | NSPS | J, A | Approval of H2S Alternative Monitoring for Loading Racks
0100036 | NSPS | VVV | Alternative Compliance Method Under Subpart VVV
0100037 | NSPS | A, J | Refinery Fuel Gas Alternative Monitoring Plan
0100038 | NSPS | QQQ | QQQ Applicability to Oil Refinery

Abstracts:

ADI Control #M010002

Q. Is a facility with finishing lines that perform rotogravure printing and coating excluded from the Printing and Publishing MACT if it maintains records under Section 63.829(f) for each finishing line?

A. Yes. The facility is excluded from the MACT provided it maintains records under Section 63.829(f) to show that for each month the mass of inks, solvents etc. applied by the print station on each finishing line does not exceed five weight-percent of the total mass of inks, solvents, etc. applied by that finishing line in that month.

ADI Control #M010003

Q1: How should potential to emit be calculated for the halogenated solvent cleaning MACT?

A1: The equation for PTE in the Halogenated Solvent Cleaning MACT is the correct equation to use when determining PTE for the MACT.

Q2: Is Component Repair Technology (CRT) a major source as defined at 40 CFR Sec. 63.2, subject to the Aerospace MACT?

A2: Yes. CRT is considered a major source as defined at 40 CFR 63.2 and is subject to the Aerospace MACT based on the PTE.

Q3: Is CRT subject to Title V permitting?

A3: Yes. CRT is subject to Title V permitting.

ADI Control #M010004

Q1: Does the client's portable funnel type “chute” meet the definition of transfer system under 40 CFR 63.681?

A1: Yes. Based on the information submitted and a phone call on March 01, 2000, your client's chute does meet the definition of transfer system under 40 CFR 63.681.

Q2: What emission control equipment, if any, is required during the transfer of material from container to container for the purpose of repackaging the waste?

A2: Required control equipment which are not individual drain systems are given at 40 CFR 63.689(c)(1)—(3). The control equipment includes covers, hard piping or an enclosed transfer system vented through a closed vent system to a control device.

ADI Control #M010005

Q: Does the Aerospace MACT apply to the United Airlines Indianapolis Maintenance Center (IMC)?

A: Yes. Based upon the information submitted, IMC's hangars would be considered new sources subject to the Aerospace MACT. As a new source, compliance with the Aerospace MACT is required at the time of startup.

ADI Control #M010006

Q1: Is water flow rate an acceptable alternative to water temperature and specific gravity for monitoring the performance of a scrubber on 3M's Poly (ethylene terephthalate) line?

A1: Yes. Since the company uses a once-through water system, the water flow rate be a better indicator of scrubber performance than the water temperature and specific gravity. Q2: Is monitoring the chilled water temperature an acceptable alternative to monitoring the product side temperature on a condenser at the plant?

A2: No. The request did not provide enough information explaining why the proposed alternative parameter will be as good an indicator of condenser performance as the product side temperature.

Q3: Will EPA accept the use of Method 25D to determine the group status for the plant?

A3: Yes. The proposed test method is consistent with the applicable standard.

Q4: Will EPA accept the use of EPA Method 21 to identify leaks?

A4: Conditional. The proposal is unacceptable if the company only intends to repair leaks confirmed through Method 21. The proposal is acceptable if the company intends to use Method 21 to find and repair additional leaks that would not have been detected through visual, audible, olfactory, or other detection methods.

ADI Control #M010008

Q1: Are small valves which are less than 0.5 inches in diameter and are associated with instrumentation systems considered valves under 40 CFR 60.482-7? Because valves which are less than 0.5 inches in diameter are not considered valves under 40 CFR Part 63 Subpart H, should they be included in component counts under NSPS Subpart VV?

A1: Valves which are less than 0.5 inches in diameter and are associated with instrumentation systems are considered valves under NSPS Subpart VV. Although valves of less than 0.5 inches in diameter associated with instrumentation systems are not regulated as valves under 40 CFR Part 63 Subpart H, they are considered to be components of instrumentation systems, which are regulated by Subpart H.

Because NSPS Subpart VV does not specify an instrumentation system as a separate piece of equipment regulated by the standard, valves of less than 0.5 inches in diameter associated with instrumentation systems are regulated by the Subpart VV standard as valves.

Q2: Is an in-line check valve subject to the requirements of Sec. 60.482-7(f) or is it considered a no detectable emissions valve?

A2: Since in-line check valves are enclosed within process piping for directional control and do not have the potential for fugitive emissions which are regulated by the standard, they may be considered exempt from the Subpart VV regulation as valves.

Q3: Subpart H of the MACT standards at 40 CFR 63.160(a) exempts equipment that is in organic hazardous air pollutant service for less than 300 hours per year. Is equipment in VOC service less than 300 hours per year required to be monitored under Subpart VV?

A3: Since NSPS Subpart VV does not include an exemption for equipment that is in organic hazardous air pollutant service for less than 300 hours per year, equipment in VOC service less than 300 hours per year is not exempt from monitoring requirements.

ADI Control #M010009

Q: Due to weather conditions, a facility subject to Subpart LLL will not be able to test some control devices and maintain production levels required for testing by the deadline required by 40 CFR 63.7(b). Will EPA approve a 60 day extension of the deadline?

A: Yes. The request for an extension was approved.

ADI Control #M010010

Q: Can the requirement to conduct a performance test on a flare at a plant in Pensacola be waived?

A: Yes. Because continuous flow monitors that are installed on natural gas and process gas streams ducted to the flare provide information that can be use to verify compliance with the flare performance requirements in 40 CFR 63.11, it will not be necessary to conduct a test on the flare. As a condition for approval of this testing waiver, the company must recalibrate its flow monitors annually and report exceedances on a semiannual basis.

ADI Control #M010011

Q: Is a facility that cuts e-glass fiber from textile mills, mixes the fiber with thermoset plastic resin, and cures the mixture in an oven, subject to the mineral wool or wool fiberglass MACT?

A: No. The facility does not produce the fiber that it uses, does not use any of the sources or manufacturing lines named in the MACTs, except curing ovens, uses the ovens to cure the resin but not the fibers, and is not part of a manufacturing line stretching across separate facilities.

ADI Control #Z000006

Q: Although the annual quantity of benzene managed at a treatment, storage, and disposal (TSD) facility does not exceed 10 Mg, the TSD facility receives waste from facilities described in Sec. 61.340 which do generate an annual quantity of benzene greater than 10 Mg and are subject to Subpart FF. Will the treatment requirements in Sec. 61.342(c)(1)(i) and the control requirements in Sec. 61.342(c)(1)(ii) apply to the TSD facility?

A: Yes. A TSD facility is subject to the treatment and control requirements in Sec. 61.342(c)(1)(i) and (ii) if the total annual benzene (TAB) quantity received on-site is greater than or equal to 10 Mg per year, or if the TSD facility receives waste from any facility listed in Sec. 61.340(a) whose TAB exceeds 10 Mg.

ADI Control #Z010002

Q: A company plans to install a liquid ring vacuum compressor and has proposed that the compressor would meet the requirements of Subpart F as an equivalent piece of equipment. Does the company's proposal qualify as equivalent equipment and procedures as allowed by Sec. 61.66 of the Subpart F regulation?

A: Yes. The Subpart F regulation at Sec. 61.65(b)(3)(iii) indicates that compliance with the provisions of 40 CFR Part 61 Subpart V will also demonstrate compliance with the provisions of Sec. 61.65(b)(3)(iii). The company has proposed to demonstrate compliance by meeting the requirements of Subpart V at Sec. 61.242-3(i). The company has indicated that it will designate the compressor as having no detectable emissions as described in Sec. 61.242-3(i) and Sec. 61.246(e)(2).

ADI Control #0000117

Q: Is coke oven gas the same as coal for purposes of the Subpart Db requirements?

A: Yes, coke oven gas is the same as coal by definition under Subpart Db.

ADI Control #0000118

Q: May a residual oil fired boiler which has a heat input capacity greater than 30 million BTUs/hr and is subject to Subpart Dc use fuel supplier certifications for monitoring compliance with the SO2 limit?

A: No. Under Subpart Dc, only distillate oil fired boilers of that size may use fuel supplier certifications for showing continued compliance with the SO2 emission limit. With regard to the facility in question here, boilers greater than 30 million BTUs/hr in heat input capacity that burn residual oil are not allowed to show compliance via fuel supplier certifications.

ADI Control #0000119

Q: Is a new fiber coating pilot plant for battery manufacture subject to NSPS Subpart VVV?

A: Some lines are subject and others are not based on the definition of an affected facility. In this case, the plastic film coating line is not subject as there is a specific exemption for plastic film coating under Subpart VVV.

ADI Control #0000120

Q: Is a portable automatic aggregate sampling device subject to NSPS Subpart OOO?

A: No. Portable automatic aggregate sampling devices are not covered by the definition of an affected facility under Subpart OOO.

ADI Control #0000121

Q: What is the definition of “periods of excess emissions” under Subpart J Section 60.105(e)(4)?

A: Under Section 60.105, the language “all 12-hour periods” appears for SO2 emissions. EPA interprets this to mean all periods during which the “rolling 12 hour average Claus Sulfur Recovery Plant SO2 emissions” exceed 250 ppm for plants which are controlled by an oxidation or reduction system followed by incineration.

ADI Control #0000122

Q: Will EPA waive the Method 5 testing requirement for the new feed bin baghouse installation at a stone and lime company?

A: Due to the efficiency of the new baghouse and difficulty in doing the Method 5 testing, EPA will waive the particulate mass rate testing as allowed under Section 60.8 if it is satisfied that the source is in compliance with the regulations by other means. The Method 9 visible emission readings must still be taken.

ADI Control #0000123

Q: A company has a production unit which uses a vacuum seal pot for both product recovery and the control of total organic compound emissions, and has proposed to monitor the temperature of the seal pot as an alternate monitoring methodology. The temperature of the seal pot would be monitored at least once every 15 minutes and exceedances would be defined as any 3-hour average temperature which is 110C above the temperature measured during the performance test. Would this be acceptable?

A: Yes. The measurement of temperature would be an acceptable measure of equipment performance of the seal pot.

ADI Control #0000124:

Q: A company made physical changes to a boiler in 1988 to increase its capacity to burn bagasse, and in 1994 they began firing wood in the boiler. The boiler has an annual capacity factor for fuel oil of ten percent or less. Is the boiler an affected facility under Subpart Db?

A: Yes. The physical changes which were made to increase the use of bagasse also increased its capacity for burning wood, which increased the hourly emission rate of PM. The boiler has undergone a modification and is an affected facility subject to the Subpart Db emission standards for PM. The Subpart Db emission standards for NOX and SO2 do not apply to the boiler.

ADI Control #0000125

Q: A facility which manufactures polyethylene terephthalate (PET) resin using terephthalic acid and ethylene glycol as raw materials requested a waiver from testing three esterifier receiver tanks in the raw materials preparation section of the plant. Is a source test waiver appropriate?

A: Yes. A waiver was granted because testing of other similar emission points provides adequate assurance of compliance and because the tank emissions are very low when compared to the rest of the process.

ADI Control #0000126

Q: A company which has three natural-gas fired 12.0 MMBtu/hr steam generating units requests permission to keep records of fuel usage on a monthly basis rather than daily as required by Subpart Dc. A single gas meter will be used for the entire plant and the fuel usage for each unit will be prorated based on its design heat input capacity as a percentage of the total design heat input capacity for all natural gas-fired units at the plant. Is this an acceptable alternative fuel usage recordkeeping frequency?

A: Yes. The proposal to keep records for each steam generating unit on a monthly basis is acceptable.

ADI Control #0000127

Q: Is a company which proposes to make changes to a brown stock washer system exempt from the TRS standard due to technical issues and the costs associated with incinerating the exhaust emissions?

A: In order to make a determination as to whether the exemption allowed under Sec. 60.283(a)(1)(iv) is appropriate, additional information concerning the project will be needed.

ADI Control #0000128

Q1: Will EPA waive the requirement to monitor the nitrogen content of pipeline natural gas and allow an alternative STM standard test method for monitoring the sulfur content?

A1: Yes. Each of the turbines are fueled with pipeline natural gas which contains no fuel-bound nitrogen. EPA will approve the use of ASTM D 5504-94 or 5453-93 for sulfur analysis.

Q2: Will EPA allow semi-annual monitoring frequency for sulfur content?

A2: Yes, if the source has demonstrated low data variability and sulfur content results which are below the standard.

Q3: Will EPA approve the use of a CEM to monitor NOX emissions on a source which uses water injection to control NOX and a request that the source not be required to continuously correct the data to ISO standard ambient conditions?

A3: Yes, the use of a CEM is approved and the source does not have to correct the CEM data to ISO standards since the source demonstrated that their emissions are well below the standard.

Q4: Can a source use the NOX CEM RA test to conduct the initial performance test?

A4: Yes, EPA approved the RA test for the NOX CEM as an alternative to the initial performance test.

ADI Control #0000129

Q: Will EPA provide a conditional waiver for the initial performance test?

A: Yes, because the source is a peak loading station and conditions have not allowed the source to operate to perform the initial performance test by the deadline.

ADI Control #0000130

Q1: Does coke oven gas constitute “coal” as defined under Subpart Db?

A1: Yes. For the purposes of Subpart Db, coke is a coal-derived synthetic fuel, and hence is regulated as coal under Subpart Db.

Q2: Does blast furnace gas constitute “coal” as defined under Subpart Db?

A2: No. Blast furnace gas is not derived from coal, and hence, is not regulated as coal under Subpart Db.

ADI Control #0100001

Q: Is an alternative sampling procedure proposed for a baghouse used to control particulate emissions from an electric arc furnace (EAF) acceptable?

A: Yes. Because the amount of particulate collected with this baghouse represents less than four percent of the total particulate collected by the two baghouses used to control EAF emissions, measuring the flow rate at the baghouse inlet would be an acceptable alternative to measuring the flow rate in each of the 14 exhaust stacks on the baghouse during performance testing.

ADI Control #0100002

Q: Is a relocated crusher at a facility subject to 40 CFR Part 60, Subpart OOO?

A: Because this crusher was originally constructed in 1973, it would be subject to New Source Performance Standards only if it has been modified or reconstructed after the applicability date of Subpart OOO (August 31, 1983). Because the determination request from the company addressed the issues of modification and reconstruction only from a subjective standpoint, it will be necessary to obtain additional information in order to resolve Subpart OOO applicability conclusively.

ADI Control #0100003

Q: Will EPA grant an extension of the deadline to complete certification testing of nitrogen oxides continuous emission monitoring systems installed on three combustion turbines?

A: An extension of the certification deadline under 40 CFR Part 60, Subpart GG is acceptable to Region 4 because market conditions do not currently justify operating these peaking turbines. However, to request an extension of the certification deadline under 40 CFR Part 75, the company must submit a petition to the Clean Air Markets Division at EPA Headquarters.

ADI Control #0100004

Q: Can a nitrogen oxides predictive emission monitoring system (PEMS) be used for demonstrating initial compliance and conducting ongoing monitoring on a boiler at a chemical company?

A: Yes. Based upon the results of a relative accuracy test audit conducted at three different boiler loads and the average nitrogen oxides emission rate reported by the PEMS for the initial 30-day compliance test, the PEMS can be used both for demonstrating initial compliance and for conducting ongoing monitoring.

ADI Control #0100005

Q: Is monitoring the hydrogen sulfide content of the fuel gas for two hydrogen reformer furnaces at a refinery using Draeger tubes an acceptable alternative to installing, certifying, and operating a hydrogen sulfide continuous emission monitoring system on the fuel gas line upstream of the furnaces?

A: Yes. Based upon historical data on the fuel gas hydrogen sulfide content and the fact that the company in question has an economic incentive to keep the sulfur content of the fuel gas low in order to avoid damaging the reformer catalyst, the proposed alternative will be adequate for monitoring the fuel gas hydrogen sulfide content.

ADI Control #0100006

Q: Under what conditions will firing a recovery boiler at a kraft pulp with only natural gas when the mill is shut down trigger the applicability of the nitrogen oxides emission standard in 40 CFR part 60, Subpart Db?

A: As long as the company complies with the annual capacity factor limit of ten percent or less for natural gas in its federally enforceable permit, the boiler will not be subject to the nitrogen oxides limit in Subpart Db. In addition to answering this basic applicability question, the determination provided input on a number of issues involving the deadline for initial testing and compliance demonstration procedures should the annual capacity factor for natural gas ever exceed 10 percent.

ADI Control #0100007

Q: Will EPA waive the requirement to conduct an initial performance test on two simple cycle combustion turbines if testing on two identical units at a facility indicate that emissions are less than 50 percent of the nitrogen oxides emission standard in 40 CFR part 60, Subpart GG?

A: Yes. Based upon the expectation that the variability in emissions between identical units will be low, waiving the requirement to conduct testing on a unit when the margin of compliance on an identical unit is high would be reasonable. The fact that nitrogen oxides continuous emission monitoring systems will be installed, certified, and operated on each turbine at the facility provides additional justification for waiving the requirement to conduct testing on all four units at the plant.

ADI Control #0100008

Q: Will EPA waive the requirement to monitor the amount of fuel burned each day in a boiler?

A: No. Fuel usage records are needed in order to verify that the company is not burning fuels to which an emission standard applies. Although the requirement to keep fuel usage records cannot be waived, a monthly fuel usage recordkeeping frequency was approved in this case because the only fuels currently burned in the boiler are natural gas and propane.

ADI Control #0100009

Q: Can a nitrogen oxides predictive emission monitoring system (PEMS) be used for demonstrating initial compliance and conducting ongoing monitoring on a package boiler at a kraft pulp mill?

A: Yes. Based upon the results of relative accuracy test audits conducted at three different boiler loads and the average nitrogen oxides emission rate reported by the PEMS for the initial 30-day compliance test, the PEMS can be used both for demonstrating initial compliance and for conducting ongoing monitoring.

ADI Control #0100010

Q: Can a nitrogen oxides predictive emission monitoring system (PEMS) be used for conducting ongoing monitoring on two boilers in South Carolina?

A: Based upon relative accuracy test audit (RATA) results, the PEMS for natural gas firing in Boiler No. 1 is acceptable, and the PEMS for natural gas firing in Boiler No. 2 will be acceptable if the company applies a bias correction factor of 1.072 to all nitrogen oxides results reported for this unit. The PEMS for oil firing cannot be approved for either unit because the company did not conduct RATAs that could be used to evaluate the accuracy of the PEMS when this fuel is fired.

ADI Control #0100011

Q: May Method 9 readings be used as an alternative to continuous opacity monitoring of a lime kiln where the COM does not provide accurate measurements because of steam interferences?

A: Yes. Method 9 readings may be used as an alternative to continuous opacity monitoring under specified requirements, which include daily readings and quarterly reporting.

ADI Control #0100012

Q: May a facility monitor the voltage and current of the third field of a three-field wet electrostatic precipitator instead of each field?

A: No. A facility is required to monitor each field of the wet electrostatic precipitator.

ADI Control #0100013

Q: Will EPA approve the use of Method 9 visible emission readings in lieu of a COM for a Subpart Db boiler?

A: Yes. EPA approves the use of Method 9 instead of the installation of a COM due to the very clean fuel being required for use in the boiler and the limited period of operation allowed in the permit. Similar allowances have been approved by EPA in the past under similar circumstances.

ADI Control #0100014

Q: Will EPA approve under Subpart GG a custom fuel monitoring schedule for pipeline quality natural gas fuel being used at new gas turbines?

A: Yes. EPA approves the use of a custom fuel monitoring schedule based on the national policy of 1987 for stationary gas turbines burning natural gas fuel. The fuel quality indicates that compliance will be met at the turbines.

ADI Control #0100015

Q: Is a specific furnace at a foundry plant subject to NSPS Subpart AA?

A: No. At the time of installation of the “C” furnace there was an exemption provided for Electric Arc Furnaces located in foundries.

ADI Control #0100016

Q: Will EPA approve a boiler deration proposal from a company to limit the size of boilers at two facilities?

A: Yes. EPA Region III approves the deration proposal because it meets EPA's Policy on boiler deration for limiting the steam generation capacity of the boilers.

ADI Control #0100017

Q: Will EPA approve a custom fuel monitoring schedule under Subpart GG for Jet A fuel to be burned in certain gas turbines due to the small amount of time they are used and the fuel quality specifications?

A: Yes. EPA has the authority to approve custom fuel monitoring schedules under Subpart GG based on the operation of the turbines and the characteristics of the fuel supply.

ADI Control #0100018

Q: Will EPA approve an alternative monitoring procedure for the distillation column vent streams from a new Acetal Resin plant that involves monitoring valve positions and total gas flow? Will EPA approve alternative monitoring procedures for opacity and fuel quality at the company's new Subpart Dc boiler?

A: Yes, EPA has the authority to approve alternative monitoring procedures under the General Provisions of the NSPS program if the circumstances warrant it and EPA will approve alternatives under the company's conditions due to the physical infeasibility of vent gas monitoring in the manner prescribed in the rule and fuel quality considerations.

ADI Control #0100019

Q1: May a utility facility use acid rain program monitoring requirements to demonstrate compliance with 40 CFR part 60, Subpart GG at a 52-MW combustion turbine?

A1: Yes. You may use CEMs as required by the acid rain program to demonstrate compliance with NOX and sulfur limits in 40 CFR part 60, Subpart GG.

Q2: May the facility use a custom monitoring schedule for sulfur content in fuel and waive the monitoring requirements for nitrogen content in fuel at a 22-MW combustion turbine?

A2: Yes. You may use the custom monitoring schedule as outlined in the August 14, 1987, memorandum from John Rasnic to all Regions. You may waive the monitoring of nitrogen content in the fuel when burning pipeline quality natural gas but not when burning #2 distillate fuel oil.

ADI Control #0100020

Q1: Can a utility use CEMs for NOX monitoring in lieu of the fuel monitoring requirements of 40 CFR part 60, Subpart GG?

A1: Yes. You can use CEMs as required by the acid rain program to demonstrate compliance with NOX limits in 40 CFR part 60, Subpart GG.

Q2: Can the utility use the monitoring provisions of 40 CFR part 75 for sulfur content in fuel in lieu of the fuel monitoring requirements of 40 CFR part 60, Subpart GG?

A2: Yes. You can use the monitoring provisions of 40 CFR part 75 for sulfur content in fuel in lieu of the fuel monitoring requirements of 40 CFR part 60, Subpart GG.

ADI Control #0100021

Q: Due to weather conditions, a facility subject to Subpart LLL will not be able to test some control devices and maintain production levels required for testing by the deadline required by 40 CFR 63.7(b). Will EPA approve a 60 day extension of the deadline?

A: Yes. The request for an extension was approved.

ADI Control #0100022

Q: Does a brown stock washer qualify for an exemption from the TRS standard under sec. 60.283(a)(1)(iv)?

A: Due to the technical issues and costs associated with the brown stock washer system project, a temporary exemption from the Subpart BB standard for TRS can be granted.

ADI Control #0100023

Q: Will EPA waive the requirement to monitor the nitrogen content of the landfill gas burned in a turbine?

A: Yes. Based upon the results of samples collected and analyzed over a 12-week period, the landfill gas does not contain any fuel-bound nitrogen. Because fuel-bound nitrogen is not present in the landfill gas, and because any free nitrogen in the gas will not contribute appreciably to the formation of nitrogen oxides, it will not be necessary to monitor the nitrogen content of the landfill gas.

ADI Control #0100024

Q: Is it acceptable for a company to use a transfer efficiency value of 60 percent for the high volume low pressure (HVLP) spray equipment used in its metal furniture coating operation when determining compliance under Subpart EE?

A: Yes. It is acceptable provided that the operating pressure at the guns' air nozzles is no greater than 10 pounds per square inch. Based upon EPA's knowledge of the relative performance of various coating application technologies, it is likely that the Agency would have assigned HVLP equipment a transfer efficiency equal to or higher than the 60 percent value specified for manual electrostatic spray equipment in Subpart EE if HVLP equipment had been evaluated during the development of the standard.

ADI Control #0100025

Q1: Are small valves which are less than 0.5 inches in diameter and are associated with instrumentation systems considered valves under 40 CFR 60.482-7? Because valves which are less than 0.5 inches in diameter are not considered valves under 40 CFR part 63 Subpart H, should they be included in component counts under NSPS Subpart VV?

A1: Valves which are less than 0.5 inches in diameter and are associated with instrumentation systems are considered valves under NSPS Subpart VV. Although valves of less than 0.5 inches in diameter associated with instrumentation systems are not regulated as valves under 40 CFR part 63 Subpart H, they are considered to be components of instrumentation systems, which are regulated by Subpart H. Because NSPS Subpart VV does not specify an instrumentation system as a separate piece of equipment regulated by the standard, valves of less than 0.5 inches in diameter associated with instrumentation systems are regulated by the Subpart VV standard as valves.

Q2: Is an in-line check valve subject to the requirements of Sec. 60.482-7(f) or is it considered a no detectable emissions valve?

A2: Since in-line check valves are enclosed within process piping for directional control and do not have the potential for fugitive emissions which are regulated by the standard, they may be considered exempt from the Subpart VV regulation as valves.

Q3: Subpart H of the MACT standards at 40 CFR 63.160(a) exempts equipment that is in organic hazardous air pollutant service for less than 300 hours per year. Is equipment in VOC service less than 300 hours per year required to be monitored under Subpart VV?

A3: Since NSPS Subpart VV does not include an exemption for equipment that is in organic hazardous air pollutant service for less than 300 hours per year, equipment in VOC service less than 300 hours per year is not exempt from monitoring requirements.

ADI Control #0100026

Q: Is an opacity monitoring approach based upon the collection of visible emissions data during periods of No. 6 oil firing an acceptable alternative to the installation of continuous opacity monitoring systems on two boilers whose primary fuel is natural gas?

A: Yes. Based upon the low annual capacity for oil in these units, the proposed opacity monitoring alternative is acceptable.

ADI Control #0100027

Q: Is an extension of the deadline for completing initial performance testing on a turbine unit?

A: Yes. Based upon numerous operating problems that the operator has experienced while firing oil, extending the deadline for completing testing for up to 720 operating hours following the resumption of oil firing will be acceptable. Basing the test extension on operating hours, rather than calendar days, is a better approach for this unit due to the limited operation on oil so far and the possibility that the operator may encounter additional operating problems when oil firing resumes.

ADI Control #0100028

Q: Is an opacity monitoring approach based upon the collection of visible emissions data during periods of No. 2 oil firing an acceptable alternative to the installation of a continuous opacity monitoring system on a boiler whose primary fuel is natural gas?

A: Yes. Based upon the low annual capacity for oil in this unit, the proposed opacity monitoring alternative is acceptable.

ADI Control #0100029

Q: Is an extension of the deadline for completing initial performance testing for several facilities at a plant in South Carolina acceptable?

A: Yes. The only emission unit subject to New Source Performance Standards is a boiler subject to Subpart Dc. Delaying the test for up to 30 days following the restart of the unit after the installation of a char removal system would be acceptable to Region 4. A decision regarding whether to extend the deadline for completing testing on other emission points subject to limits in a permit issued by South Carolina can be made at the discretion of the Department of Health and Environmental Control.

ADI Control #0100030

Q: Is an extension of the deadline for completing initial performance testing on a combined cycle unit in Florida acceptable?

A: Yes. It is acceptable to extend the deadline for completing the initial performance test until 30 days after the resumption of oil following the repairs in order to give the operator an opportunity to repair leaks in the water injection system used to control nitrogen oxides emissions during fuel oil combustion.

ADI Control #0100031

Q: Can the duration of visible emission observations be reduced from three hours to 90 minutes for a sand unloading and conveying operation?

A: Yes. Based upon the intermittent operation of this facility and the stringency of the applicable standard, reasonable assurance of compliance can be obtained by collecting 90 minutes of visible emissions data while the facility is in operation.

ADI Control #0100032

Q: Will EPA waive the requirement to monitor the opacity of a boiler fired with oil?

A: No. Although the annual capacity factor for oil fired in the boiler will be low, Subpart Db does not provide for an opacity monitoring exemption based upon annual capacity factors. Even though the requirement to monitor opacity cannot be waived, an alternative monitoring approach based upon the collection of visible emissions data during oil firing would be acceptable.

ADI Control #0100033

Q: Will EPA approve a custom fuel monitoring schedule for turbines at a facility?

A: Yes. Based on the fuel quality data submitted for the pipeline-quality natural gas fuel used by the turbines, EPA has approved a custom fuel monitoring schedule in accordance with EPA's National Policy.

ADI Control #0100034

Q: Can EPA waive the requirement for a CEM under Subpart J for loading rack vapors?

A: Yes. Provided certain circumstances exist, EPA can approve an Alternative Monitoring Plan submitted to EPA.

ADI Control #0100035

Q: Does a facility have to install a continuous emission monitor for monitoring H2S vapors from a loading rack?

A: No. Under certain circumstances, EPA's Policy allows for approval of an alternative monitoring method for this pollutant from this emission source.

ADI Control #0100036

Q: Will EPA approve the definition of “VOC used” as “VOC emitted” for purposes of Subpart VVV?

A: Yes. In order to be consistent with past determinations on this issue for pultrusion processes where a lot of the styrene used in the process ends up in the final product, EPA will allow the facility to use the amount of unreacted styrene to calculate the VOC usage rate for purposes of the listed throughput exemption under Subpart VVV.

ADI Control #0100037

Q: Will EPA approve a facility's alternative monitoring plans for several refinery fuel gas streams at its petroleum refinery?

A: Yes. The alternative monitoring plans are approved in accordance with the Guidance entitled “Alternative Monitoring Plan for NSPS Subpart J Refinery Fuel Gas: Conditions for Approval of the Alternative Monitoring Plan for Miscellaneous Refinery Fuel Gas Streams.”

ADI Control #0100038

Q: Do the changes made by the previous owner of a West Virginia refinery, pursuant to a RCRA Consent Order, trigger NSPS applicability under Subpart QQQ?

A: Yes, the changes made are, in some respects, construction of new affected facilities and also the modification of other affected facilities through the completed projects.

Dated: May 30, 2001.
Michael Stahl,
Director, Office of Compliance.

[FR Doc. 01-14476 Filed 6-7-01; 8:45 am]

BILLING CODE 6560-50-U